DEPARTMENT OF LABOR

Employment and Training Administration

Comment Request for Information Collection for Form ETA-750, Application for Alien Employment Certification, Extension of Currently Approved Collection

AGENCY: Employment and Training Administration (ETA), Labor.

ACTION: Notice.

SUMMARY: The Department of Labor (DOL), as part of its continuing effort to reduce paperwork and respondent burden, conducts a preclearance consultation program to provide the public and Federal agencies with an opportunity to comment on proposed and/or continuing collections of information in accordance with the Paperwork Reduction Act of 1995 (44 U.S.C. 3506(c)(2)(A)). This program helps ensure that requested data can be provided in the desired format, reporting burden (time and financial resources) is minimized, collection instruments are clearly understood, and the impact of collection requirements on respondents can be properly assessed.

Currently, ETA is soliciting comments concerning the collection of data about Form ETA-750, Application for Alien Employment Certification (OMB Control Number 1205-0015), which expires April 30, 2014. The form is used by employers to request permission to bring professional athletes to the United States and by individuals applying for a waiver in the national interest of the job offer requirement in employment-based immigration.

DATES: Written comments must be submitted to the office listed in the addresses section below on or before March 4, 2014.

ADDRESSES: Submit written comments to William L. Carlson, Ph.D., Administrator, Office of Foreign Labor Certification, Room C-4312, Employment & Training Administration, U.S. Department of Labor, 200 Constitution Avenue NW., Washington, DC 20210. Telephone number: 202-693-3010 (this is not a toll-free number). Individuals with hearing or speech impairments may access the telephone number above via TTY by calling the toll-free Federal Information Relay Service at 1-877-889-5627 (TTY/TDD). Fax: 202-693-2768. Email: ETA.OFLC.Forms@dol.gov subject line: ETA-750. A copy of the proposed information collection request (ICR) can be obtained by contacting the office listed above.

SUPPLEMENTARY INFORMATION:

I. Background

The information collection is required by sections 203(b)(2)(B)(i) and 212(a)(5)(A) of the Immigration and Nationality Act (INA) (8 U.S.C. 1153(b)(2)(B)(i) and 1182(a)(5)(A) and 8 CFR 204.5(k)(4)(ii). The Secretary of Labor is required by the INA to certify that any alien seeking to enter the United States for the purpose of performing skilled or unskilled labor does not adversely affect wages and working conditions of U.S. workers similarly employed and that there are not sufficient U.S. workers able, willing, and qualified to perform such skilled or unskilled labor. Many foreign professional athletes must qualify as skilled labor to gain permanent admission into the United States. The Form ETA-750 is used to certify that the admission of an alien athlete meets these requirements. Section 212(a)(5)(A)(iii) of the INA deals specifically with professional athletes coming to the United States on a permanent basis as immigrants. Part B of Form ETA-750 is also required by the Department of Homeland Security under 8 CFR 204.5(k)(4)(ii) for aliens applying for the National Interest Waiver (NIW) of the job offer requirement, which allows aliens to self-petition without an employer sponsor and does not require a labor certification.

II. Review Focus

DOL is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

In order to meet its statutory responsibilities under the INA, DOL needs to extend an existing collection of information pertaining to employers seeking to import foreign labor. The form used to collect the information is used not only by DOL, but also by other Federal agencies to meet the requirements of the INA. DOL uses the information collected in its permanent certification program for the employment of alien professional athletes. The Department of Homeland Security U.S. Citizenship and Immigration Services uses the form for its NIW program for employment-based immigration.

Type of Review: Extension.

Title: Form ETA-750, Application for Alien Employment Certification.

OMB Number: 1205-0015.

Affected Public: Individuals, Business or other for-profits, and not-for-profit institutions.

Form(s): ETA-750.

Total Annual Respondents: 2033.

Annual Frequency: On occasion.

Total Annual Responses: 2033.

Average Time per Response: 1 hour 49 minutes.

Estimated Total Annual Burden Hours: 3,692.

Total Annual Burden Cost for Respondents: 0.

Comments submitted in response to this comment request will be summarized and/or included in the request for OMB approval of the ICR; they will also become a matter of public record.

Signed at Washington, DC, this 13th day of December, 2013.
Eric M. Seleznow,
Acting Assistant Secretary for Employment and Training, Labor.

[FR Doc. 2013-31469 Filed 1-2-14; 8:45 am]

BILLING CODE 4510-FP-P